DEPARTMENT OF THE INTERIOR

Bureau of Land Management

[AZ-956-07-1420-BJ]

Notice of Filing of Plats of Survey; Arizona

AGENCY: Bureau of Land Management, Interior.

ACTION: Notice.

SUMMARY: The plats of survey of the described lands were officially filed in the Arizona State Office, Bureau of Land Management, Phoenix, Arizona, on dates indicated.

SUPPLEMENTARY INFORMATION:

The Gila and Salt River Meridian, Arizona

The field notes representing the remonumentation of the Initial Point, accepted March 19, 2007, and officially filed March 19, 2007, for Group 984, Arizona.

The field notes were prepared at the request of the Bureau of Land Management.

The plat representing the dependent resurvey of portions of the east boundary and subdivisional lines and the subdivision of sections 35 and 36, Township 11 North, Range 2 East, accepted April 9, 2007, and officially filed April 16, 2007, for Group 897, Arizona.

This plat was prepared at the request of the Bureau of Land Management.

The plat (2 sheets) representing the dependent resurvey of a portion of the subdivisional lines, the subdivision of certain sections, and metes-and-bounds surveys in sections 8 and 9, Township 14 North, Range 5 East, accepted September 12, 2007, and officially filed September 14, 2007, for Group 970, Arizona.

This plat was prepared at the request of the National Park Service.

The supplemental plat of section 14, Township 21 North, Range 8 East, accepted April 17, 2007, and officially filed April 19, 2007, Arizona.

This plat was prepared at the request of the Bureau of Land Management.

The plat representing the dependent resurvey of a portion of the west boundary, a portion of the subdivisional lines, a portion of the Mineral Survey No. 4383, and a portion of Mineral Survey No. 4291, and a metes-and-bounds survey in section 30, Township 14 North, Range 10 East, accepted April 13, 2007, and officially filed April 19, 2007, for Group 1007, Arizona.

This plat was prepared at the request of the United States Forest Service.

The plat representing the dependent resurvey of the Eighth Standard Parallel North (north boundary), a portion of the south boundary, the west boundary and the subdivisional lines and the subdivision of certain sections, Township 32 North, Range 10 East, accepted March 26, 2007, and officially filed April 3, 2007, for Group 975, Arizona.

This plat was prepared at the request of the Bureau of Indian Affairs, Navajo Regional Office.

The plat (2 sheets) representing the dependent resurvey of the Eighth Standard Parallel North (north boundary), a portion of the east and west boundaries and a portion of the subdivisional lines, and the subdivision of sections 6, 7, 18 and 28, and a metes-and-bounds survey in section 28, Township 32 North, Range 11 East, accepted March 26, 2007, and officially filed April 3, 2007, for Group 969, Arizona.

This plat was prepared at the request of the Bureau of Indian Affairs, Navajo Regional Office.

The plat (3 sheets) representing the dependent resurvey of a portion of the Hopi-Navajo Partition Line, Segment “D” and the survey of the south boundary, portions of the east and west boundaries and a portion of the subdivisional lines, Township 35 North, Range 18 East, accepted September 5, 2007, and officially filed September 11, 2007, for Group 1021, Arizona.

This plat was prepared at the request of the Bureau of Indian Affairs, Western Regional Office.

The plat representing the dependent resurvey of the Fifth Guide Meridian East (east boundary), the south and west boundaries, the subdivisional lines, and the subdivision of certain sections, Township 22 North, Range 20 East, accepted January 17, 2007, and officially filed January 25, 2007, for Group 980, Arizona.

This plat was prepared at the request of the Bureau of Indian Affairs, Navajo Regional Office.

The plat representing the dependent resurvey of a portion of the Arizona-Utah State Line (north boundary), the survey of the Tenth Standard Parallel North (south boundary), the Fifth Guide Meridian East (east boundary), the west boundary, the subdivisional lines and a metes- and bounds survey of a portion of the Monument Valley Tribal Park (MVTP) boundary, Township 41 North, Range 20 East, accepted September 10, 2007, and officially filed September 14, 2007, for Group 989, Arizona.

This plat was prepared at the request of the Bureau of Indian Affairs, Navajo Regional Office.

The plat representing the dependent resurvey of the Tenth Standard Parallel North (south boundary), Township 41 North, Range 28 East, and the survey of the south boundary, the Seventh Guide Meridian East (east boundary), and the subdivisional lines, Township 40 North, Range 28 East, accepted April 5, 2007, and officially filed April 11, 2007, for Group 988, Arizona.

This plat was prepared at the request of the Bureau of Indian Affairs, Navajo Regional Office.

The plat (2 sheets) representing the dependent resurvey of the Tenth Standard Parallel North (south boundary) and the east, west and north boundaries and the survey of the subdivisional lines and metes-and-bounds surveys, Township 41 North, Range 30 East, accepted January 17, 2007, and officially filed January 25, 2007, for Group 985, Arizona.

This plat was prepared at the request of the Bureau of Indian Affairs, Navajo Regional Office.

The plat representing the dependent resurvey of a portion of the Second Standard Parallel South (south boundary) and the metes-and-bounds survey of the administrative boundary between Marine Corps Air Station, Yuma and Luke Air Force Base, Township 9 South, Range 13 West, accepted September 18, 2007, and officially filed September 21, 2007, for Group 1002, Arizona.

This plat was prepared at the request of the United States Marine Corp.

The plat representing the dependent resurvey of a portion of the south boundary and a metes-and-bounds survey of the administrative boundary between Marine Corps Air Station, Yuma and Luke Air Force Base, Township 10 South, Range 13 West, accepted September 18, 2007, and officially filed September 21, 2007, for Group 1004, Arizona.

This plat was prepared at the request of the United States Marine Corp.

The plat representing the dependent resurvey of a portion of the south boundary and a metes-and-bounds survey of the administrative boundary between Marine Corps Air Station, Yuma and Luke Air Force Base, Township 11 South, Range 13 West, accepted September 18, 2007, and officially filed September 21, 2007, for Group 1005, Arizona.

This plat was prepared at the request of the United States Marine Corp.

The plat (2 sheets) representing the dependent resurvey of a portion of the south boundary and the subdivisional lines and the metes-and-bounds surveys of the Barry M. Goldwater Range boundary and the administrative boundary between Marine Corps Air Station, Yuma and Luke Air Force Base, Township 8 South, Range 14 West, accepted September 18, 2007, and officially filed September 21, 2007, for Group 1006, Arizona.

This plat was prepared at the request of the United States Marine Corp.

The plat representing the dependent resurvey of a portion of the east boundary and the metes-and-bounds survey of the administrative boundary between Marine Corps Air Station, Yuma and Luke Air Force Base, Township 9 South, Range 14 West, accepted September 18, 2007, and officially filed September 21, 2007, for Group 1003, Arizona.

This plat was prepared at the request of the United States Marine Corp.

The plat representing the dependent resurvey of the south boundary, Township 11 South, Range 14 West, accepted September 18, 2007, and officially filed September 21, 2007, for Group 1009, Arizona.

This plat was prepared at the request of the United States Marine Corp.

The plat representing the dependent resurvey of a portion of the south boundary, a portion of the east boundary and a portion of the subdivisional lines, Township 8 South, Range 15 West, accepted September 18, 2007, and officially filed September 21, 2007, for Group 995, Arizona.

This plat was prepared at the request of the United States Marine Corp.

The plat representing the dependent resurvey of the south boundary, Township 11 South, Range 15 West, accepted September 18, 2007, and officially filed September 21, 2007, for Group 1010, Arizona.

This plat was prepared at the request of the United States Marine Corp.

The plat representing the dependent resurvey of a portion of the north boundary and a portion of the subdivisional lines, Township 9 South, Range 16 West, accepted September 18, 2007, and officially filed September 21, 2007, for Group 994, Arizona.

This plat was prepared at the request of the United States Marine Corp.

The plat representing the dependent resurvey of the south boundary, Township 11 South, Range 16 West, accepted July 9, 2007, and officially filed July 18, 2007, for Group 1011, Arizona.

This plat was prepared at the request of the United States Marine Corp.

The plat representing the dependent resurvey of a portion of the subdivisional lines, and subdivision of section 17, Township 9 South, Range 17 West, accepted August 22, 2007, and officially filed August 30, 2007, for Group 993, Arizona.

This plat was prepared at the request of the United States Marine Corp.

The plat representing the dependent resurvey of the east boundary, Township 12 South, Range 17 West, accepted July 9, 2007, and officially filed July 18, 2007, for Group 1012, Arizona.

This plat was prepared at the request of the United States Marine Corp.

The plat representing the dependent resurvey of the east boundary, Township 13 South, Range 17 West, accepted July 9, 2007, and officially filed July 18, 2007, for Group 1013, Arizona.

This plat was prepared at the request of the United States Marine Corp.

The plat representing the dependent resurvey of the east boundary, of Fractional Township 14 South, Range 17 West, accepted July 9, 2007, and officially filed July 18, 2007, for Group 1014, Arizona.

This plat was prepared at the request of the United States Marine Corp.

The plat representing the dependent resurvey of a portion of the subdivisional lines and the subdivision of sections 21 and 22, Township 9 South, Range 18 West, accepted August 22, 2007, and officially filed August 30, 2007, for Group 992, Arizona.

This plat was prepared at the request of the United States Marine Corp.

The plat representing the dependent resurvey of a portion of the subdivisional lines, Township 9 South, Range 19 West, accepted August 22, 2007, and officially filed August 30, 2007, for Group 991, Arizona.

This plat was prepared at the request of the United States Marine Corp.

The plat representing the dependent resurvey of a portion of the west boundary and a portion of the subdivisional lines, Township 9 South, Range 20 West, accepted August 22, 2007, and officially filed August 30, 2007, for Group 990, Arizona.

This plat was prepared at the request of the United States Marine Corp.

The plat representing the dependent resurvey of a portion of the subdivisional lines, Township 9 South, Range 21 West, accepted August 8, 2007, and officially filed August 16, 2007, for Group 974, Arizona.

This plat was prepared at the request of the United States Marine Corp.

The plat representing the dependent resurvey of a portion of the south boundary, and a portion of the subdivisional lines, and the subdivision of section 29, Township 9 South, Range 22 West, accepted August 8, 2007, and officially filed August 16, 2007, for Group 973, Arizona.

This plat was prepared at the request of the United States Marine Corp.

The plat representing the dependent resurvey of a portion of the west boundary, a portion of the subdivisional lines, and the subdivision of section 6, Township 10 South, Range 22 West, accepted August 8, 2007, and officially filed August 16, 2007, for Group 972, Arizona.

This plat was prepared at the request of the United States Marine Corp.

The plat representing the dependent resurvey of the west boundary, Township 11 South, Range 22 West, and the west boundary, Township 12 South, Range 22 West, accepted August 8, 2007, and officially filed August 16, 2007, for Group 971, Arizona.

This plat was prepared at the request of the United States Marine Corp.

The plat representing the dependent resurvey of portion of the subdivisional lines, Township 4 South, Range 2 East, accepted January 8, 2007, and officially filed January 18, 2007 for Group 997, Arizona.

This plat was prepared at the request of the Ak-Chin Indian Community.

The plat representing the dependent resurvey of portion of the south boundary, Township 4 South, Range 2 East, and a portion of the subdivisional lines, Township 5 South, Range 2 East, accepted January 8, 2007, and officially filed January 18, 2007 for Group 999, Arizona.

This plat was prepared at the request of the Ak-Chin Indian Community.

The plat representing the dependent resurvey of portion of the west boundary, a portion of the subdivisional lines and the subdivision of certain sections, Township 4 South, Range 3 East, accepted January 8, 2007, and officially filed January 18, 2007 for Group 998, Arizona.

This plat was prepared at the request of the Ak-Chin Indian Community.

The plat representing the dependent resurvey of portion of the west boundary, a portion of the subdivisional lines and the subdivision of sections 25, 26 and 27, Township 5 South, Range 3 East, accepted January 8, 2007, and officially filed January 18, 2007 for Group 1000, Arizona.

This plat was prepared at the request of the Ak-Chin Indian Community.

The plat representing the dependent resurvey of portion of the west boundary, a portion of the subdivisional lines, a portion of the boundaries of Tract Numbers 40, 42, 43 and 53, and the subdivision of sections 28, 29 and 30, and the subdivision of sections 15, 22 and 27, Township 5 South, Range 4 East, accepted January 8, 2007, and officially filed January 18, 2007 for Group 1001, Arizona.

This plat was prepared at the request of the Ak-Chin Indian Community.

The plat representing the dependent resurvey of portion of the south boundary and a portion of the subdivisional lines, Township 9 South, Range 4 East, accepted March 20, 2007, and officially filed March 29, 2007 for Group 979, Arizona.

This plat was prepared at the request of the Bureau of Indian Affairs, Western Regional Office.

The plat (2 sheets) representing the dependent resurvey of portion of the First Guide Meridian East (west boundary), a portion of the south boundary, a portion of the subdivisional lines and a portion of Mineral Survey No. 2441, Township 9 South, Range 5 East, accepted March 20, 2007, and officially filed March 29, 2007 for Group 979, Arizona.

This plat was prepared at the request of the Bureau of Indian Affairs, Western Regional Office.

The plat representing the dependent resurvey of portion of the subdivisional lines, Township 16 South, Range 8 East, accepted March 20, 2007, and officially filed March 29, 2007 for Group 976, Arizona.

This plat was prepared at the request of the Bureau of Indian Affairs, Western Regional Office.

The plat representing the dependent resurvey of portion of the west boundary and a portion of the subdivisional lines, Township 16 South, Range 9 East, accepted March 20, 2007, and officially filed March 29, 2007 for Group 977, Arizona.

This plat was prepared at the request of the Bureau of Indian Affairs, Western Regional Office.

The plat representing the dependent resurvey of portions of the Second Guide Meridian East (west boundary) and subdivisional lines, and the subdivision of section 7, Township 14 South, Range 11 East, accepted April 9, 2007, and officially filed April 16, 2007, for Group 882, Arizona.

This plat was prepared at the request of the Bureau of Land Management.

The plat representing the dependent resurvey of portion of the subdivisional lines, Township 12 South, Range 12 East, accepted March 2, 2007, and officially filed March 8, 2007 for Group 1006, Arizona.

This plat was prepared at the request of the National Park Service.

The plat representing the dependent resurvey of portion of the north boundary, a portion of the subdivisional lines, the subdivision of section 4, and the metes-and-bounds and informative traverse surveys in the NW ¼ of section 4, Township 13 South, Range 12 East, accepted March 2, 2007, and officially filed March 8, 2007 for Group 1006, Arizona.

This plat was prepared at the request of the National Park Service.

The plat (2 sheets) representing the dependent resurvey of portion of Mineral Survey Numbers 4221, 4237, 4238A and 4238B, portions of Tract Numbers 37, 38 and 39, and metes-and-bounds surveys, in unsurveyed Township 11 South, Range 15 East, accepted August 21, 2007, and officially filed August 30, 2007 for Group 943, Arizona.

This plat was prepared at the request of the United States Forest Service.

The plat representing the dependent resurvey of a portion of the west boundary, a portion of the subdivisional lines, the subdivision of section 30, a portion of Mineral Survey Number 4221 and the metes-and-bounds surveys in section 30, Township 11 South, Range 16 East, accepted August 21, 2007, and officially filed August 29, 2007, for Group 943, Arizona.

This plat was prepared at the request of the United States Forest Service.

The supplemental plat of sections 12 and 33, Township 6 South, Range 18 East, accepted April 17, 2007, and officially filed April 19, 2007, Arizona.

This plat was prepared at the request of the Bureau of Land Management.

The supplemental plat of section 22, Township 5 South, Range 26 East, accepted April 17, 2007, and officially filed April 19, 2007, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427.

Stephen K. Hansen,
Chief Cadastral Surveyor.

[FR Doc. E7-20667 Filed 10-18-07; 8:45 am]

BILLING CODE 4310-32-P